DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed continuing information collection. In accordance with the Paperwork Reduction Act of 1995 (44 U.S.C. 3506(c)(2)(A)), this notice seeks comments concerning the need to conduct a continuous evaluation of emergency management training programs as it relates to the knowledge and skills gained by participants through the various courses.

SUPPLEMENTARY INFORMATION: 44 CFR part 360 implements the Emergency Management Training Program, designed to increase States' emergency management capabilities through training of personnel with responsibilities over preparedness, response, and recovery from all types of disasters. The Robert T. Stafford Disaster Relief and Emergency Assistance Act (Public Law 93-288) as amended, authorizes training programs for emergency preparedness for State, local and tribal government personnel. In response to the Government Performance and Results Act (GPRA), the information obtained from the Emergency Management Institute “Follow-up Evaluation Survey,” will be a follow-up tool used to evaluate the knowledge and/or skills participants obtained at EMI during training courses, and to improve Emergency Management Institute courses. The information is critical to determine if the Emergency Management Institute is meeting strategic goals and objectives established by the Federal Emergency Management Agency in order to fulfill its mission.

Collection of Information

Title: Emergency Management Institute Follow-up Evaluation Survey.

Type of Information Collection: Revision of a currently approved collection.

OMB Number: 1660-0044.

Form Numbers: 95-56.

Abstract: FEMA Form 95-56, is a self-assessment tool to identify knowledge and skills gained by trainees in the various emergency management-related courses taken. The information collected is used to: (1) Document and measure the performance of the training program to comply with mandates from the Government Performance and Results Act (GPRA) and accountability reporting requirements, and (2) conduct reviews of course contents and offerings by program officials in order to make modifications to improve effectiveness and efficiency based on survey results.

Affected Public: Federal, State, local or tribal government officials.

Estimated Total Annual Burden Hours: 600 burden hours.

Annual Burden Hours
Project/activity (survey, form(s), focus group, etc.) | No. of respondents (A) | Frequency of responses (B) | Burden hours per respondent (C) | Annual responses (A × B) | Total annual burden hours (A × B × C)
FF 95-56 | 2,200 | ᵃ 1 | 0.25 | 2,200 | 550
Pilot Test-e-mail | 100 | 1 | 0.50 | 100 | 50
Total | 2,300 |  |  | 2,300 | 600
ᵃ Frequency of response is dependent on how many courses the individual student takes.

Estimated Cost: The annualized cost estimate of this collection for each individual participant is $8.00 per course evaluation and $16.00 for a one-time only participation in a pilot test of sending the questionnaires via e-mail. Annualized cost for all respondents is $5,200.00.

Comments: Written comments are solicited to: (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Information Resources Management Branch, Information Technology Services Division, Federal Emergency Management Agency, Emergency Preparedness and Response Directorate, Department of Homeland Security, 500 C Street, SW., Room 316, Washington, DC 20472, or e-mail address: FEMA-Information-Collections@dhs.gov, or facsimile number (202) 646-3347.

FOR FURTHER INFORMATION CONTACT: Contact Dennis Hickethier, Supervisory Training Specialist, National Emergency Training Center, phone number (301) 447-1148, for additional information. You may contact Ms. Anderson for copies of the proposed collection of information at the above e-mail address or facsimile number.

Dated: September 20, 2004.
Edward W. Kernan,
Branch Chief, Information Resources Management Branch, Information Technology Services Division.

[FR Doc. 04-21666 Filed 9-27-04; 8:45 am]

BILLING CODE 9110-17-P